DEPARTMENT OF TRANSPORTATION

Federal Aviation Administration

14 CFR Part 39

[Docket No. FAA-2017-1120; Product Identifier 2017-CE-030-AD; Amendment 39-19244; AD 2018-07-13]

RIN 2120-AA64

Airworthiness Directives; Textron Aviation Inc. Airplanes

AGENCY: Federal Aviation Administration (FAA), DOT.

ACTION: Final rule.

SUMMARY: We are adopting a new airworthiness directive (AD) for certain Textron Aviation Inc. Models 510, 680, and 680A airplanes equipped with certain part number brake assemblies. This AD was prompted by a report that brake pad wear indicator pins were set incorrectly, which could lead to brake pad wear beyond the acceptable limits without indication. This AD requires inspection of the brake pad wear indicator pins and replacement of the brake assembly if any pin is set incorrectly. We are issuing this AD to address the unsafe condition on these products.

DATES: This AD is effective May 15, 2018.

The Director of the Federal Register approved the incorporation by reference of certain publications listed in this AD as of May 15, 2018.

ADDRESSES: For service information identified in this final rule, contact Textron Aviation Inc., One Cessna Boulevard, P.O. Box 7704, Wichita, Kansas 67277; phone: 316-517-6215; email: citationpubs@txtav.com; internet: https://support.cessna.com/custsupt/csupport/newlogin.jsp; or UTC Aerospace Systems, Goodrich Corporation, 101 Waco Street, P.O. Box 340, Troy, Ohio 45373; phone: 937-339-3811; email: awb.techpubs@utas.utc.com; internet: https://www.customers.utcaerospacesystems.com/. You may view this service information at the FAA, Policy and Innovation Division, 901 Locust, Kansas City, Missouri 64106. For information on the availability of this material at the FAA, call (816) 329-4148. It is also available on the internet at http://www.regulations.gov by searching for and locating Docket No. FAA-2017-1120.

Examining the AD Docket

You may examine the AD docket on the internet at http://www.regulations.gov by searching for and locating Docket No. FAA-2017-1120; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION: CONTACT ONE OF THE FOLLOWING:

• For the Model 510: David Enns, Aerospace Engineer, Wichita ACO Branch, FAA, 1801 Airport Road, Room 100, Wichita, Kansas 67209; phone: 316-946-4147; fax: 913-946-4107; email: david.enns@faa.gov; or

• For the Models 680 and 680A: Adam Hein, Aerospace Engineer, Wichita ACO Branch, FAA, 1801 Airport Road, Room 100, Wichita, Kansas 67209; phone: 316-946-4116; fax: 316-946-4107; email: adam.hein@faa.gov.

SUPPLEMENTARY INFORMATION:

Discussion

We issued a notice of proposed rulemaking (NPRM) to amend 14 CFR part 39 by adding an AD that would apply to certain Textron Aviation Inc. (Textron) Models 510, 680, and 680A airplanes equipped with brake assemblies, part numbers (P/Ns) 2-1706-1 and 2-1675-1, with certain serial numbers. The NPRM published in the Federal Register on December 11, 2017 (82 FR 58140). The NPRM was prompted by a report that brake pad wear indicator pins were set incorrectly, which could lead to brake pad wear beyond the acceptable limits without indication. Brakes overhauled by UTC may have wear indicator pins set longer than specified. UTC discovered this condition during their inspection of incoming brakes. This condition, if not corrected, could result in brake pad wear beyond the acceptable limits without indication and consequent loss of braking ability, which could lead to a runway excursion. We are issuing this AD to address the unsafe condition on these products.

Comments

We gave the public the opportunity to participate in developing this final rule. The following presents the comments received on the NPRM and the FAA's response to each comment.

Request Clarification for FAA-Approved Replacement Instructions

Mark Mitcheson of NetJets Aviation requested specifics on “FAA-approved replacement instructions approved specifically for this AD.” We infer he wants clarification of the intent of this statement.

We agree that the language quoted by the commenter and used in the NPRM was confusing. We intended to direct those responsible for complying with the requirements of the AD to the type certificate holder, in this case Textron Aviation Inc., to obtain the replacement instructions (i.e., maintenance manuals) specific to the applicable airplane models affected by this AD.

We modified in this AD the language quoted by the commenter to more accurately reflect our intent.

Request Parts Installation Prohibition

Mark Mitcheson requested whether the AD should prohibit the installation of the affected parts.

We partially agree. We agree operators should avoid installing the affected part because parts that do not meet type design could introduce the unsafe condition onto the airplane. However, we disagree with adding a specific requirement to the AD prohibiting the installation of the affected part. This AD requires inspection of the installed affected parts, and, if an affected part is installed, the airplane will immediately be subject to the requirements of this AD.

Conclusion

We reviewed the relevant data, considered the comments received, and determined that air safety and the public interest require adopting this final rule with the change described previously and minor editorial changes. We have determined that these changes:

• Αre consistent with the intent that was proposed in the NPRM for addressing the unsafe condition; and

• Do not add any additional burden upon the public than was already proposed in the NPRM.

We also determined that these changes will not increase the economic burden on any operator or increase the scope of this final rule.

Related Service Information Under 1 CFR Part 51

We reviewed UTC Aerospace Systems Service Bulletin 2-1706-1-32-1, Revision 1, dated July 18, 2017; and UTC Aerospace Systems Service Bulletin 2-1675-32-2, Revision 1, dated July 18, 2017. For the applicable models, the service information identifies the affected serial number brake assemblies and describes procedures for inspecting the wear indicator pins. This service information is reasonably available because the interested parties have access to it through their normal course of business or by the means identified in the ADDRESSES section. These UTC service bulletins are included as attachments with the Textron service letters discussed in the Other Related Service Information paragraph.

Other Related Service Information

We also reviewed Textron Aviation Inc. Service Letters SL510-32-08, SL680-32-15, and SL680A-32-05, all dated July 21, 2017. For the applicable airplane models, these service letters direct the operators to use Goodrich Service Bulletins 2-1706-1-32-1 and 2-1675-32-2. However, the Goodrich Service Bulletins that the Textron Aviation Inc. Service Letters refer to and intend for operators to use are titled UTC Aerospace Systems Service Bulletin 2-1706-1-32-1, Revision 1, dated July 18, 2017; and UTC Aerospace Systems Service Bulletin 2-1675-32-2, Revision 1, dated July 18, 2017. The UTC Aerospace Systems service bulletins are included as attachments to the Textron service letters.

Costs of Compliance

We estimate that this AD affects 668 airplanes of U.S. registry.

We estimate the following costs to comply with this AD:

Estimated Costs
Action | Labor cost | Parts cost | Cost per product | Cost on U.S. operators
Inspection of the brake assembly wear indicator pins for Models 680 and 680A | 1 work-hour × $85 per hour = $85 | Not applicable | $85 | $31,790
Inspection of the brake assembly wear indicator pins for Model 510 | .5 work-hour × $85 per hour = $42.50 | Not applicable | 42.50 | 12,495

We estimate the following costs to do any necessary replacement that would be required based on the results of the inspection. We have no way of determining the number of airplanes that might need these replacements:

On-Condition Costs
Action | Labor cost | Parts cost | Cost per product
Replacement of the brake assembly for Models 680 and 680A | 8 work-hours × $85 per hour = $680 | $106,164 | $106,844
Replacement of the brake assembly for Model 510 | 3 work-hours × $85 per hour = $255 | 10,828 | 11,083

According to the manufacturer, the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-07-13 Textron Aviation Inc.: Amendment 39-19244; Docket No. FAA-2017-1120; Product Identifier 2017-CE-030-AD.

(a) Effective Date

This AD is effective May 15, 2018.

(b) Affected ADs

None.

(c) Applicability

(1) This AD applies to Textron Aviation Inc. (Textron) (type certificates previously held by Cessna Aircraft Company) Models 510, 680, and 680A airplanes, certificated in any category, with serial numbers listed in paragraphs (c)(1)(i) through (iii) of this AD and equipped with a brake assembly specified in paragraphs (c)(1)(i) through (iii) of this AD:

(i) For Model 510 airplanes, serial numbers (S/N) -0001 through -0479: Brake assembly part number (P/N) 2-1706-1 that has a serial number listed in table 1 of UTC Aerospace Systems (UTC) Service Bulletin 2-1706-1-32-1, Revision 1, July 18, 2017;

(ii) Model 680 airplanes, S/Ns -0001 through -0349 and -0501 through -0570: Brake assembly P/N 2-1675-1 that has a serial number listed in table 1 of UTC Service Bulletin 2-1675-32-2, Revision 1, July 18, 2017; and

(iii) Model 680A airplanes, -0003 thru -0069 and -0071 thru -0089: Brake assembly P/N 2-1675-1 that has a serial number listed in table 1 of UTC Service Bulletin 2-1675-32-2, Revision 1, July 18, 2017.

(2) The UTC service bulletins are included as attachments to Textron Service Letters SL510-32-08, SL680-32-15, and SL680A-32-05, all dated July 21, 2017. However, you may also obtain the UTC service bulletins directly from UTC using the contact information found in paragraph (k)(2) of this AD.

(d) Subject

Joint Aircraft System Component (JASC)/Air Transport Association (ATA) of America Code 32, Landing Gear.

(e) Unsafe Condition

This AD was prompted by information received from UTC that brake pad wear indicator pins were set incorrectly. We are issuing this AD to detect and address wear indicator pins that were set at an incorrect length. The unsafe condition, if not addressed, could result in brake pad wear beyond the acceptable limits without indication and consequent loss of braking ability, which could lead to a runway excursion.

(f) Compliance

Comply with this AD within the compliance times specified, unless already done.

(g) Inspection

(1) For Model 510 airplanes: Within 75 landings after May 15, 2018 (the effective date of this AD) or within 90 days after May 15, 2018 (the effective date of this AD), whichever occurs first, inspect the brake pad wear indicator pins, P/N 2-1706-1, for correct length following the Accomplishment Instructions in UTC Service Bulletin 2-1706-1-32-1, Revision 1, July 18, 2017.

(2) For Models 680 and 680A airplanes: Within 200 landings after May 15, 2018 (the effective date of this AD) or within 90 days after May 15, 2018 (the effective date of this AD), whichever occurs first, inspect the brake pad wear indicator pins, P/N 2-1675-1, for correct length following the Accomplishment Instructions in UTC Service Bulletin 2-1675-32-2, Revision 1, July 18, 2017.

(3) The compliance times in this AD are presented in landings. If you do not keep a record of the total number of landings, then multiply the total number of hours time-in-service (TIS) after the effective date by 0.85 for Model 510 airplanes and multiply the total number of hours TIS after the effective date by 0.73 for Models 680 and 680A airplanes to estimate the number of landings.

(4) UTC Service Bulletin 2-1706-1-32-1, Revision 1, July 18, 2017, and UTC Service Bulletin 2-1675-32-2, Revision 1, July 18, 2017, both contain a requirement to complete an attached form and return the form to UTC Aerospace Systems. This AD does not require completing the attached form and returning it to UTC Aerospace Systems.

(h) Replacement

If any brake pad wear indicator pin is found to have an incorrect length during the inspection required in paragraph (g) of this AD, before further flight, contact Textron Aviation, Inc. for replacement instructions that the FAA accepted for compliance with this AD. You may use the contact information listed in paragraph (l)(3) of this AD, as applicable.

(i) Special Flight Permit

We allow a special flight permit per 14 CFR 39.23 for the replacement of the brake assembly required in paragraph (h) of this AD provided the wear indicator pin length extends a minimum of 0.200 inches beyond the brake assembly housing with the brakes engaged.

(j) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the applicable person identified in paragraph (k)(1)(i) or (ii) of this AD.

(2) Before using any approved AMOC, notify your appropriate principal inspector, or lacking a principal inspector, the manager of the local flight standards district office/certificate holding district office.

(k) Related Information

(1) For more information about this AD, contact one of the following:

(i) For the Model 510: David Enns, Aerospace Engineer, Wichita ACO Branch, FAA, 1801 Airport Road, Room 100, Wichita, Kansas 67209; phone: 316-946-4147; fax: 913-946-4107; email: david.enns@faa.gov; or

(ii) For the Models 680 and 680A: Adam Hein, Aerospace Engineer, Wichita ACO Branch, FAA, 1801 Airport Road, Room 100, Wichita, Kansas 67209; phone: 316-946-4116; fax: 316-946-4107; email: adam.hein@faa.gov.

(2) You may review Textron Aviation Inc. Service Letters SL510-32-08, SL680-32-15, and SL680A-32-05, all dated July 21, 2017, for additional service information related to this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) UTC Aerospace Systems Service Bulletin 2-1675-32-2, Revision 1, July 18, 2017.

(ii) UTC Aerospace Systems Service Bulletin 2-1706-1-32-1, Revision 1, July 18, 2017.

(3) For service information identified in this AD, contact Textron Aviation Inc., One Cessna Boulevard, P.O. Box 7704, Wichita, Kansas 67277; phone: 316-517-6215; email: citationpubs@txtav.com; internet: https://support.cessna.com/custsupt/csupport/newlogin.jsp; or UTC Aerospace Systems, Goodrich Corporation, 101 Waco Street, P.O. Box 340, Troy, Ohio 45373; phone: 937-339-3811; email: awb.techpubs@utas.utc.com; internet: https://www.customers.utcaerospacesystems.com/.

(4) You may view this service information at FAA, Policy and Innovation Division, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on March 30, 2018.
Pat Mullen,
Acting Deputy Director, Policy & Innovation Division, Aircraft Certification Service.

[FR Doc. 2018-06951 Filed 4-9-18; 8:45 am]

BILLING CODE 4910-13-P